DEPARTMENT OF DEFENSE

Department of the Army

32 CFR Part 519

Publication of Rules Affecting the Public

AGENCY: Department of the Army, DoD.

ACTION: Final rule; removal.

SUMMARY: This action removes 32 CFR Part 519, Publication of Rules Affecting the Public, published in the Federal Register, August 6, 2004 (69 FR 47766). The rule is being removed because it does not place requirements on the public but merely prescribes procedures for Army proponents to follow for rulemaking and the publishing of items in the Federal Register.

DATES: Effective November 16, 2007.

ADDRESSES: U.S. Army Records Management and Declassification Agency, (AAHS-RDR-C), 7701 Telegraph Road, Alexandria, VA 22315-3860.

FOR FURTHER INFORMATION CONTACT: Ms. Brenda Bowen, (703) 428-6422.

SUPPLEMENTARY INFORMATION: The Office of the Administrative Assistant to the Secretary of the Army, is the proponent for the regulation represented in 32 CFR part 519, and has concluded this regulation does not affect the public. The Army is not required to publish matters that are related solely to the internal personnel rules and practices of any agency. Therefore, it would be helpful in avoiding confusion with the public if 32 CFR part 519, is removed.

List of Subjects in 32 CFR Part 519

Administrative practices and procedures.

PART 519—[REMOVED]

Accordingly, for reasons stated in the preamble, under the authority of Sec. 3012, Public Law 84-1028, 70A Stat. 157, (10 U.S.C. 3013); sec. 3, Public Law 79-404, 60 Stat. 238, (5 U.S.C. 552), 32 CFR Part 519, Publication of Rules Affecting the Public, is removed in its entirety.

Brenda S. Bowen,
Army Federal Register Liaison Officer.

[FR Doc. 07-5682 Filed 11-15-07; 8:45 am]

BILLING CODE 3710-08-M